DEPARTMENT OF TRANSPORTATION

Federal Railroad Administration

Tier 2 Environmental Impact Statement for the High-Speed Rail Project From Granite City, Illinois to St. Louis, Missouri

AGENCY: Federal Railroad Administration (FRA), Department of Transportation (DOT).

ACTION: Notice of Intent to Prepare an Environmental Impact Statement (EIS).

SUMMARY: FRA is issuing this Notice of Intent (Notice) to advise the public that FRA and the Illinois Department of Transportation (IDOT) will jointly prepare a Tier 2 Environmental Impact Statement (EIS) for the Granite City to St. Louis High-Speed Rail (HSR) Project (Project). The EIS will evaluate environmental and related impacts of upgrading rail system and infrastructure between Union Pacific Railroad (UPRR) Milepost (MP) 273 near Granite City, IL and the St. Louis Gateway Station in St. Louis, MO to implement high-speed passenger rail service, increase rail capacity, and improve reliability for identified incremental service additions.

FRA is issuing this Notice to solicit public and agency input into the development of the scope of the EIS and to advise the public that outreach activities conducted by FRA and IDOT will be considered in preparation of the EIS. To ensure all significant issues are identified and considered, the public, governmental agencies, and all other interested parties are invited to comment on the scope of the EIS, including the purpose and need, alternatives to be considered, impacts to be evaluated, and methodologies to be used in the evaluation.

DATES: Written comments on the scope of the EIS should be provided to IDOT within thirty (30) days of the publication of this notice, at the address listed below. The public scoping meeting is scheduled on February 25, 2014, as noted below. Scoping meeting date, time and location, in addition to Project information can be found online on the FRA Web site at www.fra.dot.gov and on the Project Web site at http://www.idothsr.org.

ADDRESSES: Written comments on the scope of the EIS may be mailed or emailed within thirty (30) days of the publication of this Notice to Mr. John Oimoen, Deputy Director of Railroads, Division of Public and Intermodal Transportation, Illinois Department of Transportation, 100 West Randolph Street, Suite 6-600, Chicago, Illinois 60601, John.Oimoen@illinois.gov. Comments may also be provided orally or in writing at the scoping meeting scheduled as follows:

• The public scoping meeting will be advertised locally and is scheduled on February 25, 2014: Jackie Joyner-Kersee Center, 101 Jackie Joyner-Kersee Circle, East St Louis, IL 62204, from 5:00 p.m.-7:30 p.m.

FOR FURTHER INFORMATION CONTACT: Ms. Andréa E. Martin, Environmental Protection Specialist, Office of Railroad Policy and Development, Federal Railroad Administration, 1200 New Jersey Avenue SE., (Mail Stop 20), Washington, DC 20590, andrea.martin@dot.gov, or Mr. John Oimoen at the above address. Information and documents regarding the EIS process will also be made available through the FRA Web site at www.fra.dot.gov and on the Project Web site at http://www.idothsr.org.

SUPPLEMENTARY INFORMATION: FRA is preparing an EIS for the Project proposed by IDOT that will provide high-speed rail service between Granite City, IL and St. Louis, MO. The proposed Project would increase rail capacity associated with the Mississippi River crossings to accommodate increased rail traffic and improve reliability for identified incremental service additions anticipated with the proposed high-speed rail service of the Chicago to St. Louis HSR Corridor Program.

For the purposes of the Tier 2 EIS, a study area has been established that includes existing rail corridors. These corridors cover approximately five square miles between MP 273, near Granite City, IL and the St. Louis Gateway Station in St. Louis, MO, and include two 1,000-foot rail corridors (MacArthur Bridge and Merchants Bridge crossings) and two 500-foot intersecting roadway corridors (Niedringhaus and Bissell Avenues).

The Project is needed to accommodate the projected high-speed passenger rail traffic between MP 273, near Granite City, IL and the St. Louis Gateway Station in St. Louis, MO. Improved travel time, service reliability, and safety are necessary to attract travelers to high-speed passenger rail from automobile and air travel.

The Tier 2 EIS will analyze alternatives that meet the Project's purpose and need while maximizing community benefits and minimizing impacts to community, cultural, and natural resources. Anticipated improvements would require acquisition of new rights-of-way and permanent/temporary easements; however, the exact limits of the land acquisitions are not known at this time. Right-of-way impacts associated with proposed routes will be identified and made available for comment in the Draft EIS.

The inception of high-speed passenger rail service between Chicago and St. Louis, combined with increased freight traffic, would likely require the following:

• Evaluation of efficient and reliable routes across Mississippi River (new and existing)

• Upgrading and expansion of existing mainline tracks

• Operational improvements to interlockings within the St. Louis Terminal

• Evaluation of potential grade separations and other crossing safety measures

• Improvements to existing bridges and other infrastructure

• Evaluation of the feasibility of a new station between Granite City and St. Louis

The EIS will evaluate the potential environmental and related impacts of constructing and operating the Project within the corridors located within Madison and St. Clair Counties, IL and St. Louis, MO.

Environmental Review Process

The EIS will be developed in accordance with the Council on Environmental Quality (CEQ) regulations (40 CFR 1500 et seq.) implementing the National Environmental Policy Act of 1969 (NEPA) (42 U.S.C. 4321 et seq.), and FRA's Procedures for Considering Environmental Impacts (64 FR 28545; May 26, 1999). In addition to NEPA, the EIS will address other applicable statutes, regulations and executive orders, including the 1980 Clean Air Act Amendments, Section 404 of the Clean Water Act, the National Historic Preservation Act, Section 4(f) of the Department of Transportation Act, the Endangered Species Act, and Executive Order 12898 on Environmental Justice. FRA and IDOT are using a tiered process, as provided for in 40 CFR 1508.28 and in accordance with FRA guidance, in the completion of the environmental review of the Project. “Tiering” is a staged environmental review process applied to environmental reviews for complex projects. The Tier 1 EIS addressed broad corridor-level issues and alternatives. The Tier 2 EIS will analyze, at a greater level of detail, narrower site-specific proposals based on decisions made in Tier 1.

The purpose of the Tier 2 EIS will be to provide the FRA, reviewing and cooperating agencies, and the public with information to assess alternatives that will meet the Project's purpose and need; to evaluate the potential environmental impacts of each alternative; and to identify potential measures necessary to mitigate or avoid environmental impacts associated with the proposed Project alternatives.

Project Background

FRA initiated the High-Speed Intercity Passenger Rail (HSIPR) Program in June 2009 as part of the American Recovery and Reinvestment Act (ARRA). On January 28, 2010, Illinois was selected for a $1.2 billion federal award to bring high-speed passenger rail service to Illinois between Dwight and the East St. Louis area. In addition, the Illinois Capital Bill appropriated $400 million for high-speed rail. In December 2010, an additional $42.3 million was received for construction upgrades. The City of Alton and Madison County also received a $13.9 million Transportation Investment Generating Economic Recovery (TIGER) Discretionary Grant for a transportation center in late 2011. And, in January 2012, $186.3 million was received for corridor improvements between Joliet and Dwight, IL. IDOT, local municipalities, and the UPRR have provided matching funds to this overall funding package.

In 2012, FRA completed a Final Program EIS for the Chicago to St. Louis High-Speed Rail Corridor Program as the first phase of a tiered environmental review process, and issued a Record of Decision on the Final Program EIS on December 18, 2012. The Chicago to St. Louis HSR Corridor Program encompasses a corridor that is approximately 284 miles long with trains operating primarily on UPRR track with service provided by Amtrak. The improvements to the route will allow future passenger rail service from Chicago to St. Louis to operate at speeds up to 110 miles per hour (mph). The Tier 1 EIS established the purpose and need for the Chicago to St. Louis HSR Corridor Program, analyzed the Chicago to St. Louis HSR Corridor Program, and considered and evaluated alternatives including a no action alternative and multiple alternative alignments along existing rail corridors between Chicago and St. Louis. The Tier 1 EIS considered increasing the frequency of high-speed passenger rail service, as well as increasing the currently planned maximum speed of such service up to 110 miles per hour (mph), in the Corridor.

As part of the Tier 1 evaluation, FRA selected the Rock Island Corridor as the Preferred Alternative between Joliet and Chicago; the existing Amtrak route as the Preferred Alternative between Joliet and St. Louis; and a consolidated route along 10th Street through Springfield as the Preferred Alternative for the Springfield Rail Improvements Project. These proposed improvements were considered in addition to those improvements from Dwight to St. Louis associated with FRA's 2004 Record of Decision for the Chicago to St. Louis HSR Project and the 2011 Environmental Assessment (EA)/Finding of No Significant Impact (FONSI) for the UPRR's Track Improvement Project from Joliet to Dwight, IL.

As previously mentioned, FRA and IDOT will be responsible for implementing the Project and will jointly prepare a Tier 2 EIS. This Tier 2 EIS represents the next stage in the tiered environmental review process associated with the Chicago to St. Louis HSR Corridor Program. The Tier 2 EIS for the Granite City to St. Louis HSR Project is part of the Chicago to St. Louis HSR Corridor Program and is being conducted to address and evaluate, in more detail, this component of the Selected Alternative carried forward from the Tier 1 study.

Tier 2 analyses are being conducted between Joliet and Chicago; for the Springfield flyover, and Granite City to St. Louis segments. The Tier 2 evaluation for the Springfield Rail Improvements Project was conducted concurrently to the Tier 1 study. More information regarding the development, evaluation, and selection of alignments during the Tier 1 EIS process, the Chicago to St. Louis HSR Tier 1 Draft EIS, Final EIS, and ROD can be viewed at the following Web site: www.idothsr.org/tier_1.

In addition to the remaining components of the Chicago to St. Louis HSR Corridor Program selected in the overall project's Tier 1 ROD, there are ongoing rail improvement programs that relate to the Project studied in this EIS, including the Chicago Region Environmental and Transportation Efficiency Program (CREATE), the Chicago to St. Louis 220 mph High-Speed Rail Express and the Midwest Regional Rail Initiative (MWRRI). Although related, the successful implementation of this Project is not dependent and will not restrict considerations of alternatives or the completion of the following regional rail improvement programs described below.

The Chicago to St. Louis 220 mph High-Speed Rail Express is a project concept being pursued by IDOT. This service, at speeds up to 220 mph, may utilize existing rail corridors, a new corridor, or a combination of both, and could serve different travel markets. The 220 mph concept is intended as a complementary service to the Chicago to St. Louis high-speed rail service that is being evaluated in this EIS. In 2009, the Midwest High-Speed Rail Association prepared a feasibility study that indicated that a completely grade separated route could be established by modifying existing rail corridors to connect Chicago, Champaign, Decatur and Springfield, IL with St. Louis, MO, with a one-way terminal-to-terminal trip time of approximately two hours, utilizing a maximum speed of 220 mph. The French National Railways (SNCF) prepared an Expression of Interest in 2009 in response to FRA's Request for Expression of Interest dated December 11, 2008. The SNCF proposed a high-speed rail route to be located adjacent to existing rail corridors and sharing existing rail corridors in urban approaches at lower speeds. IDOT intends to further study the 220 mph project concept, including development of an investment-grade business plan and the preparation of a separate Tier 1 EIS.

MWRRI is an effort led by the Wisconsin Department of Transportation and supported by eight other midwestern states to upgrade Amtrak service in those states, with maximum speeds of 79 to 110 mph depending on the level of improvements made. A Chicago-St. Louis corridor is included in MWRRI's September 2004 Executive Report and November 2006 Benefit Cost and Economic Analysis. Additional corridors proposed by MWRRI include: Chicago-Green Bay, Wisconsin; Chicago-Minneapolis, Minnesota; St. Louis-Kansas City, Missouri; Chicago-Cincinnati, Ohio; Chicago-Cleveland, Ohio; Chicago-Detroit, Michigan; Chicago-Port Huron, Michigan; Chicago-Carbondale, Illinois; Chicago-Quincy, Illinois; and Chicago-Omaha, Nebraska. Several other feeder corridors connecting smaller municipalities to the primary corridors are also included. More information is available at http://www.dot.wisconsin.gov/projects/rail.htm.

Scoping and Public Involvement

FRA encourages broad participation in the Tier 2 EIS process during scoping and review of the resulting environmental documents. Comments are invited from the public, governmental agencies, and all other interested parties to ensure the full range of issues related to the Project are addressed, reasonable alternatives are considered, and significant issues are identified. In particular, FRA is interested in identifying areas of environmental concern where there might be a potential for significant impacts. Public agencies with jurisdiction are requested to advise FRA and IDOT of the applicable permit and environmental review requirements of each agency, and the scope and content of the environmental information that is germane to the agency's statutory responsibilities in connection with the proposed Project. Public agencies are requested to advise FRA if they anticipate taking a major action in connection with the proposed Project and if they wish to cooperate in the preparation of the EIS.

Public scoping opportunities and meetings will be scheduled as described above and are an important component of the scoping process for federal environmental review. FRA is seeking participation and input of all interested federal, state, and local agencies, Native American groups, and other concerned private organizations and individuals on the scope of the EIS. The proposed Project is a federal undertaking with the potential to affect historic properties. As such, it is subject to the requirements of Section 106 of the National Historic Preservation Act of 1966 (NHPA) (16 U.S.C. 470(f)). In accordance with regulations issued by the Advisory Council on Historic Preservation (36 CFR 800), FRA intends to coordinate compliance with Section 106 of the NHPA with the preparation of the EIS, beginning with the identification of consulting parties through the scoping process, in a manner consistent with the standards set out in 36 CFR 800.8.

Issued in Washington, DC, on February 11, 2014.
Corey W. Hill,
Director, Office of Passenger and Freight Programs.

[FR Doc. 2014-03324 Filed 2-14-14; 8:45 am]

BILLING CODE 4910-06-P